DEPARTMENT OF HOMELAND SECURITY

U.S. Customs and Border Protection

Agency Information Collection Activities: CBP Regulations Pertaining to Customs Brokers

Correction

In notice document 2013-30220 appearing on page 76851 of the issue of Thursday, December 19, 2013, make the following correction:

In the first column, in the heading, the subject line is corrected to read as set forth above.

[FR Doc. C1-2013-30220 Filed 12-24-13; 8:45 am]

BILLING CODE 1505-01-D